DEPARTMENT OF HOMELAND SECURITY

Coast Guard

33 CFR Part 165

[CGD17-05-002]

RIN 1625-AA11 and 1625-AA87

Regulated Navigation Area and Security Zones; High Capacity Passenger Vessels in Alaska

AGENCY: Coast Guard, DHS.

ACTION: Proposed rule; re-opening of public comment period.

SUMMARY: In response to public comments on the proposed Regulated Navigation Area and Security Zones; High Capacity Passenger Vessels in Alaska, the Coast Guard is re-opening the public comment period an additional 30 days. These actions will afford the public additional time and opportunity to provide the Coast Guard with information regarding the proposed Regulated Navigation Area and Security Zones; High Capacity Passenger Vessels in Alaska.

DATES: Comments and related material must reach the Coast Guard on or before May 27, 2005.

ADDRESSES: You may mail comments and related material to District 17 (MOC), 709 West 9th St., Room 753, Juneau, Alaska 99801. District 17 (MOC) maintains the public docket for this rulemaking. Comments and related materials received from the public will become part of this docket and will be available for inspection or copying at District 17 (MOC), 709 West 9th St., Room 753, Juneau, Alaska 99801 between 9 a.m. and 4 p.m., Monday through Friday, except Federal holidays.

FOR FURTHER INFORMATION CONTACT: LT Matthew York, District 17 (MOC), 709 West 9th St., Room 753, Juneau, Alaska 99801, (907) 463-2821.

SUPPLEMENTARY INFORMATION:

Request for Comments

On March 9, 2005, D17 (MOC) published a Federal Register Notice seeking comments on the proposed Regulated Navigation Area and Security Zones; High Capacity Passenger Vessels in Alaska (70 FR 11595). The initial comment period was 30 days. A total of 19 public comments were received by the April 8, 2005, deadline, and all of them raised important issues on possible effects of the proposed rule.

Additionally, others persons commented to the Coast Guard and said they needed more time. To ensure the Coast Guard receives comments from interested parties and to allow more time for dissemination of the proposed rule, the Coast Guard is re-opening the public comment period for an additional 30 days.

We encourage you to submit comments and related material pertaining specifically to this rulemaking by submitting comments and related material. If you do so, please include your name and address, identify the docket number for this rulemaking (CGD17-05), and give the reason for each comment. You may submit your comments and material by mail, hand delivery, fax, or electronic means to the project officer at the addresses or phone numbers listed under FOR FURTHER INFORMATION CONTACT, but please submit your comments and material by only one means. If you submit them by mail or hand delivery, submit them in an unbound format, no larger than 8½ by 11 inches, suitable for copying and electronic filing. If you would like to know that your submission reached us, please enclose a stamped, self-addressed postcard or envelope. We will consider all comments and material received during the comment period. The recommendation made by this office may be affected by comments received.

Public Meeting

We do not plan to hold a public meeting. However, you may submit a request for a public meeting by writing to District 17 (MOC) at the address under ADDRESSES explaining why one would be beneficial. If we determine that a public meeting would aid this rulemaking, we will hold one at a time and place announced by a separate notice in the Federal Register.

Dated: April 18, 2005.
James C. Olson,
Rear Admiral, U.S. Coast Guard, Commander, Seventeenth Coast Guard District.

[FR Doc. 05-8349 Filed 4-26-05; 8:45 am]

BILLING CODE 4910-15-P